DEPARTMENT OF LABOR

Employment and Training Administration

[TA-W-59,965]

Jones Apparel of Texas II, Ltd, Armour Facility, El Paso, TX; Amended Certification Regarding Eligibility To Apply for Worker Adjustment Assistance and Negative Determination Regarding Eligibility To Apply for Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and a Negative Determination Regarding Eligibility to Apply for Alternative Trade Adjustment Assistance on September 27, 2006, applicable to workers of Jones Apparel of Texas II, Ltd, El Paso, Texas. The notice was published in the Federal Register on October 16, 2006 (71 FR 60762).

At the request of the State agency and a company official, the Department reviewed the certification for workers of the subject firm. New information shows that the Department did not identify the subject firm name in its entirety. The name of the subject firm should read Jones Apparel of Texas II, Ltd, Armour Facility, El Paso, Texas.

Based on these findings, the Department is amending this certification to correctly identify the subject firm name to read Jones Apparel of Texas II, Ltd, Armour Facility, El Paso, Texas.

The intent of the Department's certification is to include all workers of the El Paso, Texas location of the subject firm who was adversely affected by a shift in production to China, Vietnam, Cambodia, Egypt and the Hashemite facilities in China.

The amended notice applicable to TA-W-59,965 is hereby issued as follows:

“All workers of Jones Apparel of Texas II, Ltd, Armour Facility, El Paso, Texas, who became totally or partially separated from employment on or after August 21, 2005 through September 27, 2008, are eligible to apply for adjustment assistance under Section 223 of the Trade Act of 1974.”

I further determine that all workers of Jones Apparel of Texas II, Ltd, Armour Facility, El Paso, Texas, are denied eligibility to apply for alternative trade adjustment assistance under Section 246 of the Trade Act of 1974.

Signed at Washington, DC, this 26th day of October 2006.
Elliott S. Kushner,
Certifying Officer, Division of Trade Adjustment Assistance.

[FR Doc. E6-18637 Filed 11-3-06; 8:45 am]

BILLING CODE 4510-30-P